DEPARTMENT OF HEALTH AND HUMAN SERVICES

Substance Abuse and Mental Health Services Administration

Center for Substance Abuse Prevention; Notice of Meeting

Pursuant to Public Law 92-463, notice is hereby given of the Web conference meeting of the Substance Abuse and Mental Health Services Administration's (SAMHSA) Center for Substance Abuse Prevention (CSAP) Drug Testing Advisory Board (DTAB) on May 3 and 4, 2011.

A portion of the meeting from 10 a.m. to 5 p.m. EDT on May 3 will be open to the public and will include the Federal drug testing updates from the Department of Transportation, the Department of Defense, the Nuclear Regulatory Commission, and the Federal Drug-Free Workplace Programs; updates on the electronic custody and control form and the medical review officer certification under the Mandatory Guidelines for Federal Workplace Drug Testing Programs; and updates on oral fluid as a potential alternative specimen for Federal Workplace Drug Testing Programs.

The public is invited to attend the open session in person or to listen via teleconference. Due to the limited seating space and call-in capacity, registration is requested. Public comments are welcome. To register, make arrangements to attend, obtain the teleconference call-in numbers and access codes, submit written or brief oral comments, or to request special accommodations for persons with disabilities, please register at the SAMHSA Committees' Web site at http://nac.samhsa.gov/Registration/meetingsRegistration.aspx or by contacting the CSAP DTAB Designated Federal Official, Dr. Janine Denis Cook (see contact information below).

The Board will also meet to discuss proposed revisions to the Mandatory Guidelines for Federal Workplace Drug Testing Programs on May 4 between 10 a.m.-5 p.m. EDT. This portion of the meeting will be conducted in a closed session as determined by the Administrator, SAMHSA, in accordance with 5 U.S.C. 552b(c)(9)(B) and 5 U.S.C. App. 2, Section 10(d).

Substantive program information, a summary of the meeting, and a roster of DTAB members may be obtained as soon as possible after the meeting, either by accessing the SAMHSA Committee Web site, http://www.nac.samhsa.gov/DTAB/meetings.aspx, or by contacting Dr. Cook. The transcript for the open meeting will also be available on the SAMHSA Committee Web site within three weeks after the meeting.

Committee Name: Substance Abuse and Mental Health Services Administration's Center for Substance Abuse Prevention Drug Testing Advisory Board.

Date/Time/Type: May 3, 2011 from 10 a.m. to 5 p.m. EDT: OPEN. May 4, 2011 from 10 a.m. to 5 p.m. EDT: CLOSED.

Place: SAMHSA Office Building, Sugarloaf and Seneca Conference Rooms, 1 Choke Cherry Road, Rockville, Maryland 20857.

Contact: Janine Denis Cook, PhD, Designated Federal Official, SAMHSA Drug Testing Advisory Board, 1 Choke Cherry Road, Room 2-1045, Rockville, Maryland 20857.

Telephone: 240-276-2600.

Fax: 240-276-2610.

E-mail: janine.cook@samhsa.hhs.gov.

Dated: April 8, 2011.
Toian Vaughn,
Committee Management Officer, Substance Abuse and Mental Health Services Administration.

[FR Doc. 2011-9082 Filed 4-13-11; 8:45 am]

BILLING CODE 4162-20-P